DEPARTMENT OF VETERANS AFFAIRS

Enhanced-Use Lease Development of Property at the Department of Veterans Affairs Medical Center in Dayton, OH

AGENCY: Department of Veterans Affairs.

ACTION: Notice of intent to enter into an enhanced-use lease.

SUMMARY: The Secretary of the Department of Veterans Affairs (VA) intends to enter into an enhanced-use lease of approximately 0.6 acres of land and an existing building (Building No. 402) at the VA Medical Center in Dayton, Ohio. The lease would have an initial term of 65 years, and an option to extend such term for 10 additional years. In exchange for and as consideration under the lease, the selected lessee would be required to develop, finance, renovate, construct, manage, maintain, and operate the building as a facility comprised of not less than 27 units, and provide transitional housing and supportive services to homeless individuals within the community. Such housing and supportive services would be provided by the lessee to veterans on a priority basis. As further consideration, VA would receive an annual rent of $5,000 (subject to yearly increases per a HUD fair market rent escalator) plus additional in-kind consideration, such as case management and counseling services, from the lessee during the lease term.

FOR FURTHER INFORMATION CONTACT: William Sexton, Office of Asset Enterprise Management (004B), Department of Veterans Affairs, 810 Vermont Avenue, NW., Washington, DC 20420, (202) 273-9470.

SUPPLEMENTARY INFORMATION: Title 38 U.S.C. 8161, et seq. states that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: February 27, 2007.
R. James Nicholson,
Secretary of Veterans Affairs.

[FR Doc. E7-4015 Filed 3-6-07; 8:45 am]

BILLING CODE 8320-01-P